DEPARTMENT OF COMMERCE

National Oceanic and Atmospheric Administration

Proposed Information Collection; Comment Request; Reporting of Sea Turtle Entanglement in Fishing Gear or Marine Debris

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 9, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Kate Sampson, Greater Atlantic Regional Fisheries Office, 55 Great Republic Drive, Gloucester, MA 01930, (978) 282-8470 or kate.sampson@noaa.gov.

SUPPLEMENTARY INFORMATION:

I. Abstract

This request is for revision and extension of a currently approved information collection.

Sea turtles can become accidentally entangled in active or discarded fishing gear, marine debris, or other line in the marine environment. Entanglement has the potential to cause serious injury or mortality, which would negatively impact the recovery of endangered and threatened sea turtle populations. The National Oceanic and Atmospheric Administration's (NOAA) National Marine Fisheries Service (NMFS) established the Sea Turtle Disentanglement Network (STDN) to respond to these entanglement events, in particular those involving the vertical line of fixed gear fisheries. The STDN's goals are to increase reporting, to reduce serious injury and mortality to sea turtles, and to collect information that can be used for mitigation of these threats. As there is limited observer coverage of fixed gear fisheries, the STDN data are invaluable to NMFS in understanding the threat of entanglement and working towards mitigation.

II. Method of Collection

Reports will be submitted on paper (faxed or mailed), by telephone, or electronically.

III. Data

OMB Control Number: 0648-0496.

Form Number(s): None.

Type of Review: Regular submission (revision and extension of a currently approved information collection).

Affected Public: Individuals or households; business or other for-profit organizations; not-for-profit institutions; State, Local, or Tribal government; Federal government.

Estimated Number of Respondents: 111.

Estimated Time per Response: 2 to 2.5 hours per case.

Estimated Total Annual Burden Hours: 165.

Estimated Total Annual Cost to Public: $100 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 28, 2017.
Sarah Brabson,
NOAA PRA Clearance Officer.

[FR Doc. 2017-04751 Filed 3-9-17; 8:45 am]

BILLING CODE 3520-22-P